DEPARTMENT OF STATE

[Public Notice: 5717]

60-Day Notice of Proposed Information Collection: DS-2031, Shrimp Exporter's/Importer's Declaration, OMB Control Number 1405-0095

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Shrimp Exporter's/Importer's Declaration.

OMB Control Number: 1405-0095.

Type of Request: Extension of a Currently Approved Collection.

Originating Office: Bureau of Oceans and International Environmental and Scientific Affairs, Office of Marine Conservation (OES/OMC).

Form Number: DS-2031.

Respondents: Business or other for-profit.

Estimated Number of Respondents: 3,000.

Estimated Number of Responses: 10,000.

Average Hours per Response: 10 min.

Total Estimated Burden: 1,666.

Frequency: On Occasion.

Obligation to Respond: Mandatory Required to Obtain or Retain a Benefit.

DATES: The Department will accept comments from the public up to 60 days from March 9, 2007.

ADDRESSES: You may submit comments by mail to the Office of Marine Conservation (OES/OMC), 2201 C Street, NW., Room 2758, Washington, DC 20520, or by facsimile at 202-736-7350.

FOR FURTHER INFORMATION CONTACT: Direct requests for additional information regarding the collection listed in this notice, including requests for copies of the proposed information collection and supporting documents, to Clayton Stanger, Office of Marine Conservation, Bureau of Oceans and International Environmental and Scientific Affairs, Department of State, Washington, DC 20520-7818; telephone: 202-647-2335.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Form DS-2031 is necessary to document imports of shrimp pursuant to the State Department's implementation of Section 609 of Public Law 101-162, which prohibits the entry into the United States of shrimp harvested in ways which are harmful to sea turtles. Respondents are shrimp exporters and government officials in countries which export shrimp to the United States. The DS-2031 Form is to be retained by the importer for a period of three years subsequent to entry, and during that time is to be made available to U.S. Customs and Border Protection of the Department of State upon request.

Methodology: The DS-2031 Form is completed by the exporter, the importer, and under certain conditions a government official of the exporting country. The DS-2031 Form accompanies shipment of shrimp and shrimp products to the United States and is to be made available to U.S. Customs and Border Protection at the time of entry.

Dated: February 27, 2007.
Margaret F. Hayes,
Acting, Deputy Assistant Secretary for Oceans and Fisheries, Department of State.

[FR Doc. E7-4320 Filed 3-8-07; 8:45 am]

BILLING CODE 4710-09-P